DEPARTMENT OF LABOR

Employment and Training Administration

Grafton Job Corps Center Proposed New Parking Lot Construction

AGENCY: Employment and Training Administration, Labor.

ACTION: Final finding of no significant impact, grafton job corps center proposed new parking lot construction, located at 100 Pine Street, North Grafton, Massachusetts.

SUMMARY: The Department of Labor's (DOL) Employment and Training Administration, pursuant to the Council on Environmental Quality Regulations implementing procedural provisions of the National Environmental Policy Act (NEPA), gives final notice of the proposed construction of a 40,700 square foot asphalt parking lot and related security fencing and lighting at the main entrance of the Grafton Job Corps Center and that this project will not have a significant adverse impact on the environment.

DATES: These findings are effective as of April 16, 2021.

FOR FURTHER INFORMATION CONTACT: Jose Velazquez, Department of Labor, 200 Constitution Avenue NW, Room N-4460, Washington, DC 20210; Telephone (202) 693-3099 (this is not a toll free number).

SUPPLEMENTARY INFORMATION: Pursuant to the Council on Environmental Quality Regulations (40 CFR part 1500-08) implementing procedural provisions of the National Environmental Policy Act (NEPA), in accordance with 29 CFR 11.11(d), gives final notice of the proposed construction of a 40,700 square foot asphalt parking lot and related security fencing and lighting at the main entrance of the Grafton Job Corps Center and that this project will not have a significant adverse impact on the environment. A public notice of availability of the draft environmental assessment (EA) was published in the Telegram & Gazette in Worcester County, Massachusetts, on December 16, 2020. The review period extended for 24 days, ending on January 8, 2021. No public comments were received. No changes to the findings of the EA have been made.

Implementation of the proposed action alternative will not have significant impacts on the human environment. The determination is sustained by the analysis in the EA, agency, consultation, the inclusion and consideration of public review, and the capability of mitigations to reduce or avoid impacts. Any adverse environmental effects that could occur are no more than minor in intensity, duration and context and less-than-significant. As described in the EA, there are no highly uncertain or controversial impacts, unique or unknown risks, significant cumulative effects, or elements of precedence. There are no previous, planned, or implemented actions, which, in combination with the proposed action alternative, would have significant effects on the human environment. Requirements of NEPA have been satisfied, and preparation of an Environmental Impact Statement is not required.

Suzan G. LeVine,
Principal Deputy Assistant Secretary for Employment and Training, Labor.

[FR Doc. 2021-07810 Filed 4-15-21; 8:45 am]

BILLING CODE 4510-FN-P